DEPARTMENT OF TRANSPORTATION

Surface Transportation Board

[Docket No. AB 314 (Sub-No. 7X)]

Chicago Central & Pacific Railroad Company—Abandonment Exemption—in Pottawattamie County, Iowa, and Douglas County, Neb

On January 22, 2015, Chicago, Central & Pacific Railroad Company (CC&P) filed with the Surface Transportation Board (Board) a petition under 49 U.S.C. 10502 for exemption from the provisions of 49 U.S.C. 10903 to abandon approximately 2.56 miles of interconnected track across and adjacent to the Missouri River in Iowa and Nebraska (the Line). The Line consists of: (1) Approximately 2.12 miles of rail line extending from milepost 510.62 in Council Bluffs, Pottawattamie County, Iowa, across the Missouri River to milepost 514.80 near North 25th Street E in Omaha, Douglas County, Neb.¹ and (2) the south leg of its wye track at Council Bluffs, extending from milepost 511.7 on CC&P's main line near Avenue K to the connection with the first line segment at North 16th Street, an additional distance of approximately 0.44 miles. The Line includes the station of Council Bluffs (which will remain open) and traverses United States Postal Service Zip Codes 51501 and 68110.

¹ According to CC&P, the Line includes a milepost equation (adjustment), which accounts for what might otherwise be perceived as a mileage discrepancy based on calculations applying the terminal milepost numbers.

According to CC&P, the Line has not been used for the provision of rail common carrier service for over 20 years and there are no shippers located on the Line. Overhead traffic is handled via a switching arrangement with the Union Pacific Railroad Company (UP). CC&P states that in the unlikely event that the switching arrangement were to terminate, CC&P expects that it would continue to be able to serve customers in Omaha under an interline arrangement with UP or another carrier. CC&P further states that it seeks to abandon the Line primarily to facilitate the formal closure and removal of the Missouri River Bridge. Due to many years of bridge inactivity and the absence of shippers along the Line, the U.S. Coast Guard has deemed the bridge to be a navigation hazard and has demanded that it be removed.

According to CC&P, the Line does not contain federally granted rights-of-way. Any documentation in CC&P's possession will be made available promptly to those requesting it.

The interest of railroad employees will be protected by the conditions set forth in Oregon Short Line Railroad—Abandonment Portion Goshen Branch Between Firth & Ammon, In Bingham & Bonneville Counties, Idaho, 360 I.C.C. 91 (1979).

By issuing this notice, the Board is instituting an exemption proceeding pursuant to 49 U.S.C. 10502(b). A final decision will be issued by May 12, 2015.

Any offer of financial assistance (OFA) under 49 CFR 1152.27(b)(2) will be due by May 22, 2015, or 10 days after service of a decision granting the petition for exemption, whichever occurs first. Each OFA must be accompanied by a $1,600 filing fee. See 49 CFR 1002.2(f)(25).

All interested persons should be aware that, following abandonment, the Line may be suitable for other public use, including interim trail use. Any request for a public use condition under 49 CFR 1152.28 or for trail use/rail banking under 49 CFR 1152.29 will be due no later than March 3, 2015. Each trail request must be accompanied by a $250 filing fee. See 49 CFR 1002.2(f)(27).

All filings in response to this notice must refer to Docket No. AB 314 (Sub-No. 7X) and must be sent to: (1) Surface Transportation Board, 395 E Street SW., Washington, DC 20423-0001; and (2) Robert A. Wimbish, Fletcher & Sippel LLC, 29 North Wacker Drive, Suite 920, Chicago, IL 60606-2832. Replies to the petition are due on or before March 3, 2015.

Persons seeking further information concerning abandonment procedures may contact the Board's Office of Public Assistance, Governmental Affairs and Compliance at (202) 245-0238 or refer to the full abandonment regulations at 49 CFR part 1152. Questions concerning environmental issues may be directed to the Board's Office of Environmental Analysis (OEA) at (202) 245-0305. Assistance for the hearing impaired is available through the Federal Information Relay Service at 1-800-877-8339.

An environmental assessment (EA) (or environmental impact statement (EIS), if necessary) prepared by OEA will be served upon all parties of record and upon any other agencies or persons who comment during its preparation. Other interested persons may contact OEA to obtain a copy of the EA (or EIS). EAs in abandonment proceedings normally will be made available within 60 days of the filing of the petition. The deadline for submission of comments on the EA generally will be within 30 days of its service.

Board decisions and notices are available on our Web site at “WWW.STB.DOT.GOV.”

Decided: February 6, 2015.
By the Board, Rachel D. Campbell, Director, Office of Proceedings.
Brendetta S. Jones,
Clearance Clerk.

[FR Doc. 2015-02835 Filed 2-10-15; 8:45 am]

BILLING CODE 4915-01-P